FEDERAL COMMUNICATIONS COMMISSION

Notice of Public Information Collection(s) Being Submitted to OMB for Review and Approval

October 17, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 24, 2000. If you anticipate that you will be submitting comments, but find it difficult to do so within the period of time allowed by this notice, you should advise the contact listed below as soon as possible.

ADDRESSES: Direct all comments to Les Smith, Federal Communications Commission, Room 1-A804, 445 12th Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0544.

Title: Commercial Leased Access Channels, 47 CFR 76.701.

Form Number: N/A.

Type of Review: Extension of a currently approved collection.

Respondents: Business or other for-profit entities

Number of Respondents: 100.

Estimate Time Per Response: 8 hours.

Frequency of Response: On occasion reporting requirements; Third party disclosure.

Total Annual Burden: 800.

Total Annual Costs: None.

Needs and Uses: Permitting cable operators to adopt policies regarding programming gives operators alternatives to banning broadcasts; for example, by adopting policies to rearrange broadcast times so as to accommodate adult audiences while lessening the risks of harm to children.

OMB Control Number: 3060-0711.

Title: Implementation of Section 34(a)(1) of the Public Utility Holding Company Act of 1935 (PUHCA), as amended by the Telecommunications Act of 1996, 47 CFR 1.5001-1.5007.

Form Number: N/A.

Type of Review: Extension of a currently approved collection.

Respondents: Business or other for-profit entities.

Number of Respondents: 15.

Estimate Time Per Response: 10 hours.

Frequency of Response: On occasion reporting requirements; Third party disclosure.

Total Annual Burden: 150 hours.

Total Annual Costs: $48,000.

Needs and Uses: 47 CFR Sections 1.500-1.5007 implement Section 34(a) of PUHCA. The rules provide filing requirements and procedures to expedite public utility holding company (PUHC) entry into the telecommunications industry. To achieve this goal, the regulations require a PUHC seeking determination of its status as an exempt telecommunications company (ETC) to file in good faith for a determination by the FCC. The Commission uses this information to determine whether a PUHC filer does satisfy the requisite statutory criteria for ETC status under Section 34(a)(1) of PUHCA, as amended.

OMB Control Number: 3060-0928.

Title: Application for Class A Television Broadcast Station Construction Permit or License.

Form Number: FCC 302-CA.

Type of Review: Extension of currently approved collection.

Respondents: Businesses or other for-profit entities; Not-for-profit institutions.

Number of Respondents: 958.

Estimated Time Per Response: 2 hours.

Frequency of Response: On occasion reporting requirement.

Total Annual Burden: 1,916 hours.

Total Annual Cost: $211,000.

Needs and Uses: LPTV stations use FCC Form 302-CA when seeking to convert to Class A status. FCC Form 302-CA requires a series of certifications by the Class A applicant as prescribed by the Community Broadcasters Protection Act of 1999 (CBPA). Licensees are required to provide weekly announcements to their listeners informing them that the applicant has applied for a Class A license and that the public has the opportunity to comment on the application prior to the FCC's action. The Commission's staff use the data from FCC Form 302-CA to confirm that the station has met the eligibility standards to convert their licenses to Class A status. Data are then extracted from FCC Form 302-CA for inclusion in the station's operating license.

Federal Communications Commission.
Magalie Roman Salas,
Secretary.

[FR Doc. 00-27420 Filed 10-24-00; 8:45 am]

BILLING CODE 6712-01-P